FEDERAL ACCOUNTING STANDARDS ADVISORY BOARD

Notice of Request for Comment on an Exposure Draft Technical Release: Leases Implementation Guidance Updates

AGENCY: Federal Accounting Standards Advisory Board.

ACTION: Notice.

SUMMARY: Notice is hereby given that the Federal Accounting Standards Advisory Board (FASAB) has released an exposure draft Technical Release titled Leases Implementation Guidance Updates. Respondents are encouraged to comment on any part of the exposure draft.

DATES: Written comments are requested by June 30, 2023.

ADDRESSES: Written comments should be sent to fasab@fasab.gov or Monica R. Valentine, Executive Director, Federal Accounting Standards Advisory Board, 441 G Street NW, Suite 1155, Washington, DC 20548.

The exposure draft is available on the FASAB website at https://www.fasab.gov/documents-for-comment/. Copies can be obtained by contacting FASAB at (202) 512-7350.

FOR FURTHER INFORMATION CONTACT: Ms. Monica R. Valentine, Executive Director, 441 G Street NW, Suite 1155, Washington, DC 20548, or call (202) 512-7350.

(Authority: 31 U.S.C. 3511(d); Federal Advisory Committee Act, 5 U.S.C. 1001-1014)

Dated: May 30, 2023.
Monica R. Valentine,
Executive Director.

[FR Doc. 2023-11836 Filed 6-2-23; 8:45 am]

BILLING CODE 1610-02-P